DEPARTMENT OF ENERGY

Federal Energy Regulatory Commission

[Project Nos. 13824-000; 13826-000]

FFP Missouri 17, LLC; BOST2 Hydroelectric LLC; Notice of Competing Preliminary Permit Applications Accepted for Filing and Soliciting Comments, Motions To Intervene, and Competing Applications

On August 6, 2010, FFP Missouri 17, LLC (FFP) and BOST2 Hydroelectric LLC (BOST2) filed preliminary permit applications, pursuant to section 4(f) of the Federal Power Act, proposing to study the feasibility of a hydropower project at the U.S. Army Corps of Engineers' (Corps) Columbia Lock & Dam, located on the Ouachita River near the City of Columbia, in Caldwell Parish, Louisiana. The sole purpose of a preliminary permit, if issued, is to grant the permit holder priority to file a license application during the permit term. A preliminary permit does not authorize the permit holder to perform any land-disturbing activities or otherwise enter upon lands or waters owned by others without the owners' express permission.

FFP's Columbia Lock & Dam Hydroelectric Project No. 13824-000 would consist of: (1) Two to four compact bulb turbines, with a combined generation capacity of 12.0 MW, placed in the existing gate bays of the Corps Columbia Dam; (2) a 40-foot x 60-foot control building located on the South Carolina side of the river; and (3) a 12,000-foot-long transmission line extending northwest from a switchyard near the dam to an existing transmission line. FFP is also exploring an alternative that would involve construction of a new powerhouse, intake channel, and tailrace opposite the lock structure on the South Carolina side of the river. Each design would have an average annual generation of 50,000 MWh/yr. The project would utilize flows from the Columbia Dam and operate as directed by the Corps.

Applicant Contact: Mr. Ramya Swaminathan, Free Flow Power Corporation, 33 Commercial Street, Gloucester, MA 01930. (978) 226-1531.

BOST2's proposed Columbia Hydroelectric Project No. 13826-000 would consist of: (1) An intake channel; (2) a new powerhouse containing two generating units with a total rated capacity of 6.0 MW; (3) a tailrace channel; (4) a 12,000-foot-long 230-kilovolt (kV) transmission line extending from the switchyard to a point of interconnection. The project would have an average annual generation of 47,000 megawatt-hours/year (MWh/yr). The project would operate run-of-river and utilize flows released from the Columbia Lock and Dam.

Applicant Contact: Mr. Douglas A. Spaulding, Nelson Energy, 8441 Wayzata Blvd., Suite 101, Golden Valley, MN 55426. (952) 544-8133.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13824-000, or P-13826-000) in the docket number field to access the document. For assistance, contact FERC Online Support.

Dated: July 13, 2011.
Kimberly D. Bose,
Secretary.

[FR Doc. 2011-18911 Filed 7-26-11; 8:45 am]

BILLING CODE 6717-01-P